DEPARTMENT OF TRANSPORTATION

Federal Aviation Administration

14 CFR Part 39

[Docket No. FAA-2008-0165; Directorate Identifier 2007-SW-58-AD; Amendment 39-15377; AD 2008-04-05]

RIN 2120-AA64

Airworthiness Directives; Eurocopter Deutschland Model EC135 Helicopters

AGENCY: Federal Aviation Administration (FAA), Department of Transportation (DOT).

ACTION: Final rule; request for comments.

SUMMARY: We are adopting a new airworthiness directive (AD) for Eurocopter Deutschland (Eurocopter) Model EC135 helicopters. This AD results from mandatory continuing airworthiness information (MCAI) originated by an aviation authority of another country to identify and correct an unsafe condition on an aviation product. The European Aviation Safety Agency (EASA), the Technical Agent for the Federal Republic of Germany, with which we have a bilateral agreement, states in the MCAI:

During a flight a burning odour [sic] could be smelled in the cabin. Its reason was a short circuit in the LH cable channel, which was caused by a damaged wire harness. The wire harness was damaged by the side channel cover's attachment hardware.

The rubbing and chafing of the wiring harnesses in the tunnels underneath the channel cover, against the screws and rivets attaching the channel covers, could lead to a short circuit of the wiring harness.

This AD requires actions that are intended to address this unsafe condition by preventing a short circuit resulting from a damaged wiring harness, which could subsequently lead to a fire in the helicopter.

DATES: This AD becomes effective on March 6, 2008.

The Director of the Federal Register approved the incorporation by reference of Eurocopter Alert Service Bulletin EC135-53A-1017, Revision 1, dated June 22, 2007, as of March 6, 2008.

We must receive comments on this AD by April 21, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this AD from American Eurocopter Corporation, 2701 Forum Drive, Grand Prairie, Texas 75053-4005, telephone (972) 641-3460, fax (972) 641-3527.

Examining the AD Docket

You may examine the AD docket on the Internet at http://www.regulations.gov or in person at the Docket Operations office between 9 a.m. and 5 p.m., Monday through Friday, except Federal holidays. The AD docket contains this AD, the economic evaluation, any comments received, and other information. The street address for the Docket Operations office (telephone (800) 647-5527) is in the ADDRESSES section. Comments will be available in the AD docket shortly after receipt.

FOR FURTHER INFORMATION CONTACT: Carroll Wright, Aviation Safety Engineer, FAA, Rotorcraft Directorate, Regulations and Policy Group, Fort Worth, Texas 76193-0111, telephone (817) 222-5120, fax (817) 222-5961.

SUPPLEMENTARY INFORMATION:

Streamlined Issuance of AD

The FAA is implementing a new process for streamlining the issuance of ADs related to MCAI. This streamlined process will allow us to adopt MCAI safety requirements in a more efficient manner and will reduce safety risks to the public. This process continues to follow all FAA AD issuance processes to meet legal, economic, Administrative Procedure Act, and Federal Register requirements. We also continue to meet our technical decision-making responsibilities to identify and correct unsafe conditions on U.S.-certificated products.

This AD references the MCAI and related service information that we considered in forming the engineering basis to correct the unsafe condition. The AD contains text copied from the MCAI and for this reason might not follow our plain language principles.

Discussion

The European Aviation Safety Agency (EASA), which is the technical agent for Member States of the European Community, has issued an MCAI in the form of EASA Emergency AD No. 2007-0021-E, dated January 19, 2007, (referred to after this as “the MCAI”), to correct an unsafe condition for this German-certificated helicopter. The MCAI states:

During a flight a burning odour [sic] could be smelled in the cabin. Its reason was a short circuit in the LH cable channel, which was caused by a damaged wire harness. The wire harness was damaged by the side channel cover's attachment hardware.

The rubbing and chafing of the wiring harnesses in the tunnels underneath the channel cover, against the screws and rivets attaching the channel covers, could lead to a short circuit of the wiring harness and a subsequent fire in the helicopter.

You may obtain further information by examining the MCAI and service information in the AD docket.

Relevant Service Information

Eurocopter has issued Alert Service Bulletin No. EC135-53A-017, Revision 1, dated June 22, 2007. The actions described in the MCAI are intended to correct the same unsafe condition as that identified in the service information.

FAA's Determination and Requirements of This AD

This product has been approved by the aviation authority of the Federal Republic of Germany and is approved for operation in the United States. Pursuant to our bilateral agreement with this State of Design, we have been notified of the unsafe condition described in the MCAI and service information. We are issuing this AD because we evaluated all pertinent information and determined the unsafe condition exists and is likely to exist or develop on other products of the same type design.

Differences Between This AD and the MCAI or Service Information

We have reviewed the MCAI and related service information and, in general, agree with their substance. This AD differs from the MCAI as follows:

• We do not require contacting the manufacturer for further instructions if a wiring harness is damaged but require that you replace a damaged wiring harness with an airworthy wiring harness.

• We do not require a February 28, 2007, compliance time because that date has passed.

• We include in the applicability the helicopter serial number (S/N) 0005 up to and including S/N 0576 as stated in the service information rather than the helicopter S/N 0005 up to and including 0654 as stated in the MCAI.

• We refer to the compliance time as “hours time-in-service” rather than “flight hours.”

These differences are highlighted in the “Differences Between the FAA AD and the MCAI” section in the AD.

Costs of Compliance

We estimate that this AD will affect 156 helicopters of U.S. registry. We also estimate that it will take 5 hours to inspect a helicopter with a copilot collective lever cover and 4 hours to inspect a helicopter without a copilot collective lever cover. The average labor rate is $80 per work-hour. Required parts will cost about $400 for a helicopter with a copilot collective lever cover and $320 for a helicopter without a copilot collective lever cover. Based on these figures, we estimate the total cost to be $124,800, assuming all the helicopters have a copilot collective lever cover.

FAA's Determination of the Effective Date

An unsafe condition exists that requires the immediate adoption of this AD. The FAA has found that the risk to the flying public justifies waiving notice and comment prior to adoption of this rule because a short circuit and fire could occur from a damaged wiring harness. Each wiring harness must be inspected within a short period of time, 25 hours time-in-service, for chafing and wear and modified as necessary to prevent a fire from occurring in the helicopter. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2008-0165; Directorate Identifier 2007-SW-58-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-04-05 Eurocopter Deutschland: Amendment 39-15377. Docket No. FAA-2008-0165; Directorate Identifier 2007-SW-58-AD.

Effective Date

(a) This airworthiness directive (AD) becomes effective on March 6, 2008.

Other Affected ADs

(b) None.

Applicability

(c) This AD applies to Model EC135 helicopters, serial number 0005 up to and including 0576, certificated in any category.

Subject

(d) Air Transport Association of America (ATA) Code: 5321, Frame; and 1497, Miscellaneous wiring.

Reason

(e) The mandatory continued airworthiness information (MCAI) states:

During a flight a burning odour [sic] could be smelled in the cabin. Its reason was a short circuit in the LH cable channel, which was caused by a damaged wire harness. The wire harness was damaged by the side channel cover's attachment hardware.

The rubbing and chafing of the wiring harnesses in the tunnels underneath the channel cover, against the screws and rivets attaching the channel covers, could lead to a short circuit of the wiring harness and a subsequent fire in the helicopter.

Actions and Compliance

(f) Within 25 hours time-in-service (TIS), unless already done, do the following:

(1) Inspect the wiring harnesses for chafing and wear in the areas shown in Figure 1 of Eurocopter Alert Service Bulletin EC135-53A-017, Revision 1, dated June 22, 2007 (ASB).

(i) If chafing or wear is found on the wiring harness, before further flight, replace the wiring harness with an airworthy wiring harness.

(ii) If no chafing or wear is found, modify the side channel covers by affixing double-sided adhesive tape in the area depicted in Figure 2 of the ASB by following the Accomplishment Instructions, paragraph C, of the ASB.

(2) Modify the attachment of the copilot collective lever cover as depicted in Figure 3 of the ASB by following the Accomplishment Instructions, paragraph D, of the ASB.

(3) Attach chafing protection to the wiring harnesses and replace affected screws as depicted in and in accordance with Figure 4 of the ASB and by following the Accomplishment Instructions, paragraphs E and F, of the ASB. Paragraph F(2) of the ASB applies only to helicopters with a copilot collective lever cover.

Differences Between the FAA AD and the MCAI

(g) This AD differs from the MCAI as follows:

(1) We do not require contacting the manufacturer for further instructions if a wiring harness is damaged but require that you replace a damaged wiring harness with an airworthy wiring harness.

(2) We do not require a February 28, 2007, compliance time because that date has passed.

(3) We have used the helicopter S/N 0005 up to and including S/N 0576 as stated in the service information rather than the helicopter S/N 0005 up to and including 0654 as stated in the MCAI.

(4) We refer to the compliance time as “hours TIS” rather than “flight hours.”

Other FAA AD Provisions

(h) The following provisions also apply to this AD:

(1) Alternative Methods of Compliance (AMOCs): The Manager, Safety Management Group, FAA, has the authority to approve AMOCs for this AD, if requested using the procedures found in 14 CFR 39.19. Send information to ATTN: Carroll Wright, Aviation Safety Engineer, Rotorcraft Directorate, Regulations and Policy Group, Fort Worth, Texas 76193-0111, telephone (817) 222-5120, fax (817) 222-5961.

(2) Airworthy Product: Use only FAA-approved corrective actions. Corrective actions are considered FAA-approved if they are approved by the State of Design Authority (or their delegated agent) if the State of Design has an appropriate bilateral agreement with the United States. You are required to assure the product is airworthy before it is returned to service.

(3) Reporting Requirements: For any reporting requirement in this AD, under the provisions of the Paperwork Reduction Act, the Office of Management and Budget (OMB) has approved the information collection requirements and has assigned OMB Control Number 2120-0056.

Related Information

(i) Mandatory Continuing Airworthiness Information (MCAI) Emergency Airworthiness Directive No. 2007-0021-E, dated January 19, 2007, contains related information.

Material Incorporated by Reference

(j) The Director of the Federal Register approved the incorporation by reference of Eurocopter Alert Service Bulletin EC135-53A-017, Revision 1, dated June 22, 2007, under 5 U.S.C. 552(a) and 1 CFR part 51.

(k) For the Eurocopter service information identified in this AD, contact American Eurocopter Corporation, 2701 Forum Drive, Grand Prairie, Texas 75053-4005, telephone (972) 641-3460, fax (972) 641-3527.

(l) You may review copies of the Eurocopter service information at the FAA, Office of the Regional Counsel, Southwest Region, 2601 Meacham Blvd., Room 663, Fort Worth, Texas, or at the National Archives and Records Administration (NARA). For information on the availability of this material at NARA, call (202) 741-6030, or go to: http://www.archives.gov/federal-register/cfr/ibr-locations.html.

Issued in Fort Worth, Texas, on February 6, 2008.
Scott A. Horn,
Acting Manager, Rotorcraft Directorate, Aircraft Certification Service.

[FR Doc. E8-2850 Filed 2-19-08; 8:45 am]

BILLING CODE 4910-13-P